DEPARTMENT OF DEFENSE

Defense Acquisition Regulations System

48 CFR Parts 204 and 252

RIN 0750-AG47

[DFARS Case 2011-D039]

Defense Federal Acquisition Regulation Supplement; Safeguarding Unclassified DoD Information

AGENCY: Defense Acquisition Regulations System, Department of Defense (DoD).

ACTION: Proposed rule; extension of comment period.

SUMMARY: DoD is proposing to amend the Defense Federal Acquisition Regulation Supplement (DFARS) to add a new subpart and associated contract clauses to address requirements for safeguarding unclassified DoD information. The comment period is being extended 93 days to provide additional time for interested parties to review the proposed DFARS changes.

DATES: Comments on the proposed rule should be submitted in writing to one of the addresses shown below on or before November 30, 2011, to be considered in the formation of the final rule.

ADDRESSES: Submit comments identified by DFARS Case 2011-D039, using any of the following methods:

○ Federal eRulemaking Portal: http://www.regulations.gov. Follow the instructions for submitting comments.

○ E-mail: dfars@osd.mil. Include DFARS Case 2011-D039 in the subject line of the message.

○ Fax: 703-602-0350.

○ Mail: Defense Acquisition Regulations System, Attn: Mr. Julian Thrash, OUSD(AT&L)DPAP(DARS), Room 3B855, 3060 Defense Pentagon, Washington, DC 20301-3060.

Comments received generally will be posted without change to http://www.regulations.gov, including any personal information provided.

To confirm receipt of your comment, please check http://www.regulations.gov approximately two to three days after submission to verify posting (except allow 93 days for posting of comments submitted by mail).

FOR FURTHER INFORMATION CONTACT: Mr. Julian Thrash, telephone 703-602-0310.

SUPPLEMENTARY INFORMATION:

I. Background

DoD published a proposed rule in the Federal Register on June 29, 2011 (76 FR 38089), with a request for comments by August 29, 2011. DoD is extending the comment period for 93 days to provide additional time for interested parties to review the proposed DFARS changes.

Mary Overstreet,
Editor, Defense Acquisition Regulations System.

[FR Doc. 2011-21337 Filed 8-19-11; 8:45 am]

BILLING CODE 5001-08-P